DEPARTMENT OF HOUSING AND URBAN DEVELOPMENT

24 CFR Part 970

[Docket No. FR-5399-C-02]

RIN 2577-AC82

Public Housing Program: Demolition or Disposition of Public Housing Projects, and Conversion of Public Housing to Tenant-Based Assistance; Correction

AGENCY: Office of the Assistant Secretary for Public and Indian Housing, HUD.

ACTION: Proposed rule; correction.

SUMMARY: HUD is correcting a proposed rule published in the Federal Register of October 16, 2014. The November 16, 2014 proposed rule incorrectly defined the term “HCC” in § 970.15. This document corrects as unnecessary an inadvertent error in expanding the abbreviation “HCC” as it occurred in § 970.15(a) of the rule. The term “HCC” is correctly defined in another section of the same rule.

FOR FURTHER INFORMATION CONTACT: Stephen Shaw, Regulations Division, Office of General Counsel, Department of Housing and Urban Development, 451 7th Street SW., Room 10276, Washington, DC 20410-8000; telephone number 202-402-5087 (this is not a toll-free number). Hearing- or speech-impaired individuals may access this number through TTY by calling the toll-free Federal Relay Service at 800-877-8339.

SUPPLEMENTARY INFORMATION: On October 16, 2014, HUD published a proposed rule entitled, “Public Housing Program: Demolition or Disposition of Public Housing Projects, and Conversion of Public Housing to Tenant-Based Assistance” (79 FR 62250). In § 970.15(a), the proposed rule inadvertently defined the term “HCC” as Housing Conservation Coordinators. In § 970.5, “HCC” is correctly defined as Housing Construction Cost. As a result, HUD is correcting this section by removing the incorrect language from the rule.

In FR Doc. 2014-24068 appearing on page 62250 in the Federal Register of Thursday, October 16, 2014, the following correction is made. On page 62280, in the third column, correct paragraph (a)(2) of § 970.15 to read as follows:

§ 970.15 [Corrected].

(a) * * *

(2) No reasonable program of modifications is cost-effective to return the project to its useful life as evidenced by at least one estimate of the rehabilitation cost of the project by an independent architect or engineer that is not a regular employee of the PHA. HUD generally shall not consider a program of modifications to be cost-effective if the costs of such program exceed HCC in effect at the time the application is submitted to HUD; and

* * * * *

Dated: October 22, 2014.
Aaron Santa Anna,
Assistant General Counsel for Regulations.

[FR Doc. 2014-25499 Filed 10-27-14; 8:45 am]

BILLING CODE 4210-67-P